DEPARTMENT OF HEALTH AND HUMAN SERVICES

Centers for Disease Control and Prevention

Disease, Disability, and Injury Prevention and Control Special Emphasis Panel: Understanding Social Disparities in Chronic Disease Health Outcomes, Program Announcement Number DP-05-132; Correction

Correction: Notice of program announcement number DP-05-132 was published in the Federal Register on August 12, 2005, Volume 70, Number 155, pages 47214-47215. The meeting has been cancelled.

Time and Date: 3 p.m.-5 p.m., September 1, 2005 (Closed).

Meeting Location: Teleconference.

For Further Information Contact: Gwen Cattledge, PhD, Scientific Review Administrator, National Center for Chronic Disease Prevention and Health Promotion, 4770 Buford Highway, MS-K92, Atlanta, GA 30341, Telephone (770) 488-4655.

The Director, Management Analysis and Services Office, has been delegated the authority to sign Federal Register notices pertaining to announcements of meetings and other committee management activities, for both CDC and the Agency for Toxic Substances and Disease Registry.

Diane Allen,
Director, Acting Management Analysis and Services Office, Centers for Disease Control and Prevention.

[FR Doc. 05-17592 Filed 8-31-05; 11:41 am]

BILLING CODE 4163-18-P